DEPARTMENT OF THE INTERIOR

Bureau of Land Management

[LLWYP00000-L51100000-GA0000-LVEMK16CY810 17X; WYW184599]

Notice of Intent To Prepare an Environmental Impact Statement and Notice of Public Meeting on a Federal Coal Lease-by-Application in the Decertified Powder River Federal Coal Production Region, Wyoming

AGENCY: Bureau of Land Management, Interior.

ACTION: Notice of intent and notice of public meeting.

SUMMARY: Pursuant to the National Environmental Policy Act of 1969 (NEPA), as amended, the Bureau of Land Management (BLM), High Plains District Office announces its intent to prepare an Environmental Impact Statement (EIS) on the potential impacts of leasing a tract of Federal coal. The EIS will be called the West Antelope 3 Coal Lease by Application EIS. Antelope Coal, LLC (Antelope) applied for a coal lease for approximately 3,508.31 acres (containing approximately 441 million tons of in-place coal) in a maintenance tract of Federal coal adjacent to the Antelope Mine in Campbell and Converse Counties, Wyoming.

DATES: Comments may be submitted in writing until September 26, 2017. The BLM will host a public scoping meeting on September 20, 2017, at 7 p.m. to provide the public with an opportunity to review the proposal and gain an understanding of the coal leasing process.

ADDRESSES: Please submit written comments or concerns to the BLM High Plains District Office, Attn: Teresa Johnson, 2987 Prospector Drive, Casper, Wyoming 82604.

Written comments or resource information may also be hand-delivered to the BLM High Plains District Office, or sent by facsimile to the attention of Teresa Johnson at (307) 261-7587. Comments may be sent electronically to blm_wy_west_antelope_3@blm.gov. Please put “West Antelope 3 Coal EIS Scoping Comment” in the subject line.

The September 20 public scoping meeting will be held at the Wright Community Center, 201 Wright Blvd., Wright, Wyoming.

The BLM will announce future public meetings and other opportunities to submit comments on this project at least 15 days prior to the event through local news media and the BLM Wyoming Coal ePlanning Public Interface Site at: http://bit.ly/PRBcoal. Project information is available at the West Antelope 3 Web site located at: http://bit.ly/WestAntelope3.

Members of the public may examine documents pertinent to this proposal by visiting the BLM High Plains District Office during its business hours (7:45 a.m. to 4:30 p.m.), Monday through Friday, except Federal holidays.

FOR FURTHER INFORMATION CONTACT: Teresa Johnson or Steve Wright, BLM High Plains District Office, 2987 Prospector Drive, Casper, Wyoming 82604. Ms. Johnson or Mr. Wright may also be reached at (307) 261-7600. Persons who use a telecommunications device for the deaf (TDD) may call the Federal Relay Service (FRS) at (800) 877-8339 to contact Ms. Johnson or Mr. Wright during normal business hours. The FRS is available 24 hours a day, 7 days a week, to leave a message or question with the above individuals. You will receive a reply during normal business hours. You may call either of these numbers to have your name added to the project mailing list.

SUPPLEMENTARY INFORMATION: Antelope Coal, LLC submitted an application on August 24, 2015, to lease a maintenance tract of Federal coal adjacent to the company's Antelope Mine in Campbell and Converse Counties, Wyoming. A maintenance tract is a parcel of land containing Federal coal reserves that can be leased to maintain production at an existing mine. The tract, referred to as the West Antelope 3 Tract, has been assigned case number WYW-184599.

The West Antelope 3 Tract includes approximately 441 million tons of in-place Federal coal underlying the following lands in Campbell and Converse Counties, Wyoming:

Sixth Principal Meridian, Wyoming

T. 41 N., R. 71 W.,

Sec. 8;

Sec. 9, lots 1 thru 8;

Sec. 10, lot 5;

Secs. 17 and 19;

Sec. 20, lots 1 thru 13;

Sec. 29, lots 4, 5, 12, and 13;

Sec. 30, lots 5 thru 16.

Containing 3,508.31 acres.

Antelope Coal proposes to mine the tract as a part of the Antelope Mine. At the 2015 mining rate of approximately 35.2 million tons per year, the coal included in the West Antelope 3 Tract would extend the life of the Antelope Mine by as many as 10 years. Lands in the West Antelope 3 Tract contain private surface estate overlying the Federal coal. The Antelope Mine is operating under approved mining permits from the Land Quality and Air Quality Divisions of the Wyoming Department of Environmental Quality.

Consistent with Federal regulations under NEPA and the Mineral Leasing Act of 1920 (MLA), as amended, the BLM must prepare an environmental analysis prior to holding a competitive Federal coal lease sale. The Powder River Regional Coal Team recommended that the BLM process this coal lease application after they reviewed the West Antelope 3 Tract at a public meeting held on January 27, 2016, in Casper, Wyoming.

The Office of Surface Mining Reclamation and Enforcement (OSMRE) will be a cooperating agency in the preparation of the EIS. If the tract is leased to the applicant, the new lease must be incorporated into the existing mining and reclamation plans for the adjacent mine. Before the Federal coal in the tract can be mined, the Assistant Secretary for Land and Minerals Management must approve the revised mining plan for the mine in which the tract will be included. The OSMRE is the Federal agency that is responsible for recommending approval, approval with conditions, or disapproval of the revised mining plan to the Assistant Secretary for Land and Minerals Management. Other cooperating agencies may be identified during the scoping process.

The BLM will provide interested parties the opportunity to submit comments relating to the scope of the EIS or relevant information or both. This information will help the BLM identify issues to be considered in preparing the West Antelope 3 Coal Lease by Application EIS. Issues that have been identified in analyzing the impacts of previous Federal coal leasing actions in the Wyoming Powder River Basin (PRB) include: The need for resolution of conflicts between existing and proposed oil and gas development and coal mining on the tracts proposed for coal leasing; potential impacts to big-game herds and hunting; potential impacts to sage grouse; potential impacts to listed threatened and endangered species; potential health impacts related to blasting operations conducted by the mines to remove overburden and coal; the need to consider the cumulative impacts of coal leasing decisions combined with other existing and proposed development in the Wyoming PRB; potential impacts to climate change through greenhouse gas emissions; and potential site-specific and cumulative impacts on air and water quality.

Public response is important, and will be considered in the EIS process. At the scoping meeting, the public is invited to submit comments and resource information, and identify issues or concerns to be considered in the NEPA analysis for the coal leasing process.

The BLM can best use public input if written comments and resource information are submitted by the end of the 60-day scoping period. Please note that comments and information submitted regarding this project, including names, electronic mail addresses and street addresses of the respondents, will be available for public review and disclosure at the BLM High Plains District Office, and may be published in the West Antelope 3 Coal Lease by Application EIS.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 1506.6, and 43 CFR 3425.3.

Mary Jo Rugwell,
Wyoming State Director, Bureau of Land Management.

[FR Doc. 2017-15856 Filed 7-27-17; 8:45 am]

BILLING CODE 4310-22-P